OFFICE OF THE UNITED STATES TRADE REPRESENTATIVE

Notice of Continuation and Request for Nominations for the Intergovernmental Policy Advisory Committee on Trade

AGENCY: Office of the United States Trade Representative.

ACTION: Notice and request for applications.

SUMMARY: The Office of the United States Trade Representative (USTR) is establishing a new four-year charter term and accepting applications from qualified individuals interested in serving as a member of the Intergovernmental Policy Advisory Committee on Trade (IGPAC). The IGPAC is a trade advisory committee that provides general policy advice and guidance to the United States Trade Representative on issues involving trade and development that have a significant relationship to the affairs of U.S. state and local governments.

DATES: USTR will accept nominations on a rolling basis for membership on the IGPAC for the four-year charter term beginning in April 2018. To ensure consideration before the new charter term, you should submit you application by March 28, 2018.

FOR FURTHER INFORMATION CONTACT: Cameron Seward, Director for Intergovernmental Affairs and Public Engagement, Cameron.T.Seward@ustr.eop.gov or 202-395-2210.

SUPPLEMENTARY INFORMATION:

I. Background

Section 135(c)(1) of the Trade Act of 1974, as amended (19 U.S.C. 2155(c)(1)), authorizes the President to establish individual general trade policy advisory committees for industry, labor, agriculture, services, investment, defense, small business, and other interests, as appropriate, to provide general policy advice. The President delegated that authority to the United States Trade Representative in Executive Order 11846, section 4(d), issued on March 27, 1975. Advisory committees established by the Trade Representative are subject to the provisions of the Federal Advisory Committee Act. See 19 U.S.C. 2155(f); 5 U.S.C. App. II.

Pursuant to these authorities, the United States Trade Representative intends to establish a new four-year charter term for the IGPAC, which will begin on April 4, 2018 and end on April 3, 2022.

The IGPAC is a discretionary trade advisory committee established to provide general policy advice to the United States Trade Representative on issues involving trade and development that have a significant relationship to the affairs of U.S. state and local governments. More specifically, the IGPAC provides general policy advice on issues that may affect U.S. state and local governments including: (1) Negotiating objectives and bargaining positions before entering into trade agreements; (2) the impact of the implementation of trade agreements; (3) matters concerning the operation of any trade agreement once entered into; and (4) other matters arising in connection with the development, implementation, and administration of the trade policy of the United States.

The IGPAC meets as needed, at the call of the United States Trade Representative or his/her designee, or two-thirds of the IGPAC members, depending on various factors such as the level of activity of trade negotiations and the needs of the United States Trade Representative.

II. Membership

The IGPAC is composed of not more than 35 members who have expertise in general trade, investment and development issues and are appointed from U.S. states and localities, and other non-Federal governmental entities. Members represent the executive and legislative branches of state, county, and municipal governments and may hold elective or appointive office.

The United States Trade Representative appoints all IGPAC members for a term of four-years or until the IGPAC charter expires, and they serve at his/her discretion. Individuals can be reappointed for any number of terms. The United States Trade Representative makes appointments without regard to political affiliation and with an interest in fostering geographical diversity.

IGPAC members serve without either compensation or reimbursement of expenses. Members are responsible for all expenses they incur to attend meetings or otherwise participate in IGPAC activities.

The United States Trade Representative appoints IGPAC members to represent the executive and legislative branches of state, county, and municipal governments. USTR anticipates that virtually all members will serve in a representative capacity with a very limited number serving in an individual capacity as subject matter experts. These members, known as special government employees or SGEs, are subject to conflict of interest rules and will have to complete a financial disclosure report.

III. Request for Nominations

USTR is soliciting nominations for membership on the IGPAC. To apply for membership, an applicant must meet the following eligibility criteria:

1. The applicant must be a U.S. citizen.

2. The applicant cannot be a full-time employee of a U.S. governmental entity.

3. The applicant cannot be registered with the U.S. Department of Justice under the Foreign Agents Registration Act.

4. The applicant must be able to obtain and maintain a security clearance.

5. For representative members, who will comprise the overwhelming majority of the IGPAC, the applicant must represent the executive and legislative branches of state, county, and municipal governments.

6. For members who will serve in an individual capacity, the applicant must possess subject matter expertise on issues involving trade and development that have a significant relationship to the affairs of U.S. state and local governments. If serving in an individual capacity, the applicant cannot be a federally registered lobbyist.

In order to be considered for IGPAC membership, interested persons should submit the following to Cameron Seward at Cameron.T.Seward@ustr.eop.gov:

• Name, title, affiliation, and contact information of the individual requesting consideration.

• If applicable, a letter on the organization's letterhead from the sponsoring executive or legislative branch of a state, county, or municipal government, containing a brief description of the manner in which international trade affects the state, county, or municipality and why USTR should consider the applicant for membership.

• The applicant's personal resume or comprehensive biography.

• An affirmative statement that the applicant and the organization he or she represents meet all eligibility requirements.

USTR will consider applicants who meet the eligibility criteria based on the following factors: Ability to represent the sponsoring executive or legislative branch of a state, county, or municipal government; knowledge of and experience in trade matters relevant to the work of the IGPAC and USTR; and fostering balanced in terms of points of view and geography.

Gregory Walters,
Assistant U.S. Trade Representative for Intergovernmental Affairs and Public Engagement, Office of the United States Trade Representative.

[FR Doc. 2018-04169 Filed 2-28-18; 8:45 am]

BILLING CODE 3290-F8-P